DEPARTMENT OF HEALTH AND HUMAN SERVICES

Substance Abuse and Mental Health Services Administration

Fiscal Year (FY) 2003 Funding Opportunity

AGENCY: Substance Abuse and Mental Health Services Administration, HHS.

ACTION: Notice of funding availability for Cooperative Agreement for National Consumer and Consumer Supporter Self-Help Technical Assistance Centers.

SUMMARY: The Substance Abuse and Mental Health Services Administration (SAMHSA), Center for Mental Health Services (CMHS) announces the availability of FY 2003 funds for the grant program described below. A synopsis of this funding opportunity, as well as many other Federal Government funding opportunities, is also available at the Internet site: http://www.fedgrants.gov.

This notice is not a complete description of the program; potential applicants must obtain a copy of the Request for Applications (RFA), including Part I, Cooperative Agreement for National Consumer and Consumer Supporter Self-Help Technical Assistance Centers, Part II, General Policies and Procedures Applicable to all SAMHSA Applications for Discretionary Grants and Cooperative Agreements, and the PHS 5161-1 (Rev. 7/00) application form before preparing and submitting an application.

Funding Opportunity Title: Cooperative Agreement for National Consumer and Consumer Supporter Self-Help Technical Assistance Centers-Short Title: Self-Help Technical Assistance Centers.

Funding Opportunity Number: SM 03-008.

Catalog of Federal Domestic Assistance (CFDA) Number: 93.243.

Authority: Section 520A of the Public Health Service Act, as amended and subject to the availability of funds.

Funding Instrument: CA.

Funding Opportunity Description: The Substance Abuse and Mental Health Services Administration (SAMHSA), Center for Mental Health Services (CMHS) is accepting applications for Fiscal Year (FY) 2003 cooperative agreements to support five National Consumer and Consumer Supporter Self-Help Technical Assistance (TA) Centers. The purpose of these technical assistance centers is to assist with the improvement of State and local level mental health service systems by providing consumers, as well as supporters, service providers, and the general public, with necessary skills to foster self-help/self-management approaches.

Eligible Applicants: In accordance with Congressional authorization, applications may be submitted by public or private domestic, nonprofit entities, including faith-based organizations, which meet the criteria of consumer or consumer supporter organizations as defined in the announcement. Applicant organizations must have been in operation for a minimum of one year, and key personnel supporting the grant must have been employed by the organization for at least one year.

Due Date for Applications: August 7, 2003.

Estimated Funding Available/Number of Awards: It is expected that approximately $1,865,000 will be available for 5 awards in FY 2003 for three national consumer self-help technical assistance centers and two national consumer-supporter self-help technical assistance centers. An additional $122,000 will be competitively awarded to one of the three successful national consumer self-help technical assistance centers to facilitate the Alternatives Conference. Awards may be requested for a period of 1 year. Each applicant may apply for up to $373,000 for direct and indirect costs. Applications with proposed budgets that exceed $373,000 will be returned without review.

Is Cost Sharing Required: No.

Period of Support: 1 year.

How to Get Full Announcement and Application Materials: Complete application kits may be obtained from the SAMHSA/CMHS National Mental Health Information Center at 800-789-2647. The PHS 5161-1 application form and the full text of the funding announcement are also available electronically via SAMHSA's World Wide Web Home Page: http://www.samhsa.gov (Click on ‘Grant Opportunities’).

When requesting an application kit, the applicant must specify the funding opportunity title and number for which detailed information is desired. All information necessary to apply, including where to submit applications and application deadline instructions, are included in the application kit.

Contact for Additional Information: Risa S. Fox, M.S., Public Health Advisor, SAMHSA/CMHS, 5600 Fishers Lane, Room 11C-22, Rockville, MD 20857; (301) 443-3653; E-mail: rfox@samhsa.gov.

Dated: June 3, 2003.
Richard Kopanda,
Executive Officer, Substance Abuse and Mental Health Services Administration.

[FR Doc. 03-14349 Filed 6-5-03; 8:45 am]

BILLING CODE 4162-20-P